DEPARTMENT OF ENERGY

Federal Energy Regulatory Commission

[Project No. 15296-002]

Tivis Branch Hydro, LLC; Notice of Intent To File License Application, Filing of Pre-Application Document, and Approving Use of the Traditional Licensing Process

a. Type of Filing: Notice of Intent to File License Application and Request to Use the Traditional Licensing Process (TLP).

b. Project No.: 15296-002.

c. Date Filed: July 25, 2024.

d. Submitted By: Tivis Branch Hydro, LLC (Tivis Branch Hydro).

e. Name of Project: Flannagan Hydroelectric Project.

f. Location: The project would be located at the U.S. Army Corps of Engineers' (Corps) John W. Flannagan Dam and Reservoir, on the Pound River near the Town of Clintwood, Dickenson County, Virginia. The project would occupy about 1 acre of Federal land administered by the Corps.

g. Filed Pursuant to: 18 CFR 5.3 of the Commission's regulations.

h. Potential Applicant Contact: Mr. David Duquette, Chief Executive Officer, Littoral Power Systems, 5 Dover Street, Suite 102, New Bedford, MA 02740. Phone: (508) 436-4102, email: dduquette@littoralpower.com.

i. FERC Contact: Martha Becton, Phone: (202) 502-8335, Email: martha.becton@ferc.gov.

j. Tivis Branch Hydro filed its request to use the Traditional Licensing Process on July 25, 2024, and provided public notice of its request on August 22, 2024. In a letter dated September 27, 2024, the Director of the Division of Hydropower Licensing approved Tivis Branch Hydro, LLC's request to use the Traditional Licensing Process.

k. With this notice, we are initiating informal consultation with the U.S. Fish and Wildlife Service and/or NOAA Fisheries under section 7 of the Endangered Species Act and the joint agency regulations thereunder at 50 CFR, Part 402; and NOAA Fisheries under section 305(b) of the Magnuson-Stevens Fishery Conservation and Management Act and implementing regulations at 50 CFR 600.920. We are also initiating consultation with the Virginia State Historic Preservation Officer, as required by section 106, National Historic Preservation Act, and the implementing regulations of the Advisory Council on Historic Preservation at 36 CFR 800.2.

l. Tivis Branch Hydro filed a Pre-Application Document (PAD; including a proposed process plan and schedule) with the Commission, pursuant to 18 CFR 5.6 of the Commission's regulations.

m. A copy of the PAD may be viewed on the Commission's website (http://www.ferc.gov), using the “eLibrary” link. Enter the docket number, excluding the last three digits in the docket number field, to access the document. For assistance, contact FERC Online Support at FERCOnlineSupport@ferc.gov, (866) 208-3676 (toll free), or (202) 502-8659 (TTY).

You may register online at https://ferconline.ferc.gov/FERCOnline.aspx to be notified via email of new filings and issuances related to this or other pending projects. For assistance, contact FERC Online Support.

n. The applicant states its unequivocal intent to submit an application for an original license for Project No. 15296.

o. The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: September 27, 2024.
Debbie-Anne A. Reese,
Acting Secretary.

[FR Doc. 2024-22849 Filed 10-2-24; 8:45 am]

BILLING CODE 6717-01-P